DEPARTMENT OF THE INTERIOR

Fish and Wildlife Service

50 CFR Part 32

RIN 1018-AF52

1999-2000 Refuge-Specific Hunting and Sport Fishing Regulations; Correction

AGENCY: Fish and Wildlife Service, Interior.

ACTION: Correction to final regulations.

SUMMARY: This document contains corrections to the final regulations which were published Friday, May 12, 2000 (65 FR 30772). The document related to the 1999-2000 refuge-specific hunting and sport fishing regulations.

DATES: This correction is effective May 12, 2000.

FOR FURTHER INFORMATION CONTACT: Leslie Marler, (703) 358-2397.

SUPPLEMENTARY INFORMATION:

Background

The final regulations that are the subject of these corrections add certain national wildlife refuges to the list of areas open for hunting and/or sport fishing, along with pertinent refuge-specific regulations for such activities; and amend certain regulations on other refuges that pertain to migratory game bird hunting, upland game hunting, big game hunting, and sport fishing for the 1999-2000 season.

Need for Correction

As published, an amendatory instruction contains an error which may prove to be misleading and is in need of clarification.

Correction of Publication

Accordingly, the publication on May 12, 2000 of the final regulation, which was the subject of FR Doc. 00-11410, is corrected as follows:

§ 32.67 [Corrected]

1. On page 30793, in the first column, amendatory instruction 44.e. is corrected to read as follows:

e. Revising paragraphs A.6. and B.4. of Umatilla National Wildlife Refuge to read as follows:

Dated: June 1, 2000.
Leslie A. Marler,
Division of Refuges, Federal Register Liaison.

[FR Doc. 00-14202 Filed 6-8-00; 8:45 am]

BILLING CODE 4310-55-U